DEPARTMENT OF THE INTERIOR

National Park Service

[NPS-WASO-NAGPRA-NPS0030744; PPWOCRADN0-PCU00RP14.R50000]

Notice of Inventory Completion: Tennessee Valley Authority, Knoxville, TN

AGENCY: National Park Service, Interior.

ACTION: Notice.

SUMMARY: The Tennessee Valley Authority (TVA) has completed an inventory of associated funerary objects in consultation with the appropriate Indian Tribes or Native Hawaiian organizations, and has determined that there is no cultural affiliation between the associated funerary objects and any present-day Indian Tribes or Native Hawaiian organizations. Representatives of any Indian Tribe or Native Hawaiian organization not identified in this notice that wish to request transfer of control of these associated funerary objects should submit a written request to the TVA. If no additional requestors come forward, transfer of control of the associated funerary objects to the Indian Tribes or Native Hawaiian organizations stated in this notice may proceed.

DATES: Representatives of any Indian Tribe or Native Hawaiian organization not identified in this notice that wish to request transfer of control of these associated funerary objects should submit a written request with information in support of the request to the TVA at the address in this notice by September 21, 2020.

ADDRESSES: Dr. Thomas O. Maher, Tennessee Valley Authority, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of associated funerary objects under the control of the Tennessee Valley Authority, Knoxville, TN. The associated funerary objects were removed from the Cox site, 1JA176, in Jackson County, AL.

This notice is published as part of the National Park Service's administrative responsibilities under NAGPRA, 25 U.S.C. 3003(d)(3) and 43 CFR 10.11(d). The determinations in this notice are the sole responsibility of the museum, institution, or Federal agency that has control of the Native American cultural items. The National Park Service is not responsible for the determinations in this notice.

Consultation

A detailed assessment of the associated funerary objects was made by TVA professional staff in consultation with representatives of the Absentee-Shawnee Tribe Indians of Oklahoma; Alabama-Coushatta Tribe of Texas (previously listed as Alabama-Coushatta Tribes of Texas); Alabama-Quassarte Tribal Town; Cherokee Nation; Eastern Band of Cherokee Indians; Eastern Shawnee Tribe of Oklahoma; Kialegee Tribal Town; Poarch Band of Creeks (previously listed as Poarch Band of Creek Indians of Alabama); Seminole Tribe of Florida (previously listed as Seminole Tribe of Florida (Dania, Big Cypress, Brighton, Hollywood & Tampa Reservations)); Shawnee Tribe; The Chickasaw Nation; The Muscogee (Creek) Nation; The Seminole Nation of Oklahoma; Thlopthlocco Tribal Town; and the United Keetoowah Band of Cherokee Indians in Oklahoma (hereafter referred to as “The Consulted Tribes”).

History and Description of the Associated Funerary Objects

The site listed in this notice—1JA176, in Jackson County, AL—was excavated as part of TVA's Guntersville Reservoir project by the Alabama Museum of Natural History (AMNH) at the University of Alabama, using labor and funds provided by the Works Progress Administration. Details regarding this excavation may be found in “An Archaeological Survey of Guntersville Basin on the Tennessee River in Northern Alabama,” by William S. Webb and Charles G. Wilder.

Human remains and associated funerary objects from 1JA176 were listed in a Notice of Inventory Completion published in the Federal Register on March 31, 2014 (79 FR 18056-18057, March 31, 2014). Pursuant to 43 CFR 10.11(c)(2)(i), all the cultural items listed in that notice have been transferred to The Muscogee (Creek) Nation. Recently, additional associated funerary objects from this site were found during an improvement in the curation of TVA's archeological collections at AMNH.

From April 27, 1938, to November 10, 1939, excavation was conducted at the Cox site, 1JA176, in Jackson County, AL, following TVA's acquisition of the site on July 19, 1937. The site comprised a conical mound containing multiple stratigraphic zones that is believed to have originated as a truncated pyramid, as well as a village where most of the burial units were located. It was occupied during the Woodland period (300 B.C.-A.D.1000) and the Crow Creek phase of the Mississippian period (ca. A.D. 1400-1600). The two associated funerary objects are one animal bone and one Ledbetter projectile point. The human remains with which these funerary objects are associated could not be assigned to a specific occupation.

Determinations Made by the Tennessee Valley Authority

Officials of the Tennessee Valley Authority have determined that:

• Pursuant to 25 U.S.C. 3001(3)(A), the two objects described in this notice are reasonably believed to have been placed with or near individual human remains at the time of death or later as part of the death rite or ceremony.

• Pursuant to 25 U.S.C. 3001(2), a relationship of shared group identity cannot be reasonably traced between the associated funerary objects and any present-day Indian Tribe.

• According to final judgments of the Indian Claims Commission or the Court of Federal Claims, the land from which the associated funerary objects were removed is the aboriginal land of the Cherokee Nation; Eastern Band of Cherokee Indians; and the United Keetoowah Band of Cherokee Indians in Oklahoma. The Cherokee Nation; Eastern Band of Cherokee Indians; and the United Keetoowah Band of Cherokee Indians in Oklahoma have declined to accept transfer of control of the associated funerary objects.

• Pursuant to 43 CFR 10.11(c)(4), the Tennessee Valley Authority has agreed to transfer control of the associated funerary objects to The Muscogee (Creek) Nation.

Additional Requestors and Disposition

Representatives of any Indian Tribe or Native Hawaiian organization not identified in this notice that wish to request transfer of control of these associated funerary objects should submit a written request with information in support of the request to Dr. Thomas O. Maher, Tennessee Valley Authority, 400 West Summit Hill Drive, WT11C, Knoxville, TN 37902-1401, telephone (865) 632-7458, email tomaher@tva.gov, by September 21, 2020. After that date, if no additional requestors have come forward, transfer of control of the associated funerary objects to The Muscogee (Creek) Nation may proceed.

The Tennessee Valley Authority is responsible for notifying The Consulted Tribes that this notice has been published.

Dated: August 4, 2020.
Melanie O'Brien,
Manager, National NAGPRA Program.

[FR Doc. 2020-18233 Filed 8-19-20; 8:45 am]

BILLING CODE 4312-52-P